DEPARTMENT OF STATE

[Public Notice: 11845]

60-Day Notice of Proposed Information Collection: Request To Change End-User, End-Use and/or Destination of Hardware and Open General Licenses

AGENCY: Department of State.

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to November 28, 2022.

ADDRESSES: Interested persons are invited to submit comments regarding this proposal. Comments should refer to the proposal by name and/or OMB Control Number and should be sent by any of the following methods:

• Internet: Persons with access to the internet may comment on this notice by going to www.Regulations.gov. You can search for the document by entering “Docket Number: DOS-2022-0028” in the Search field. Then click the “Comment Now” button and complete the comment form.

• Email: DDTCPublicComments@state.gov.

• Regular Mail: Send written comments to: Directorate of Defense Trade Controls, Attn: Dilan Wickrema, 2401 E St. NW, Suite H-1304, Washington, DC 20037

You must include the subject (PRA 60 Day Comment), information collection title (Request to Change End-User, End-Use and/or Destination of Hardware and Open General Licenses), and OMB control number (1405-0173) in any correspondence.

FOR FURTHER INFORMATION CONTACT: Mr. Dilan Wickrema, Office of Defense Trade Controls Policy, Department of State, telephone (202) 634-4981; email DDTCCustomerService@state.gov ATTN: 60-Day Notice of Proposed Information Collection—Request to Change End-user, End-use and/or Destination and Open General Licenses.

SUPPLEMENTARY INFORMATION: • Title of Information Collection: Request to Change End-User, End-Use and/or Destination of Hardware and Open General Licenses.

• OMB Control Number: 1405-0173.

• Type of Request: Revision.

• Originating Office: Directorate of Defense Trade Controls (DDTC).

• Form Number: DS-6004.

• Respondents: Individuals, businesses, or nonprofit organizations engaged in the business of exporting or temporarily importing defense articles or defense services or those involved in with reexport or retransfer of unclassified defense articles otherwise authorized under the ITAR.

• Estimated Number of Respondents: 1,695.

• Estimated Number of Responses: 2,234.

• Average Time per Response: 1 hour.

• Total Estimated Burden: 2,234 hours.

• Frequency: On occasion.

• Obligation to respond: Mandatory.

We are soliciting public comments to permit the Department to:

• Evaluate whether the proposed information is necessary for the proper functions of the Department.

• Evaluate the accuracy of our estimate of the time and cost burden for this proposed collection, including the validity of the methodology and assumptions used.

• Enhance the quality, utility, and clarity of the information to be collection.

• Minimize the reporting burden on those who are to respond, including the use of automated collection techniques or other forms of information technology.

Please note, comments submitted in response to this Notice are public record. Before including any detailed personal information, you should be aware your comments as submitted, including your personal information, will be available for public review.

Abstract of Proposed Collection

This information collection is used for two main purposes: (1) the collection and submission of information required for DDTC approval of a reexport or retransfer; and (2) the collection and retention of certain information for authorizations and other approvals, including for reexports and retransfers under an Open General License (OGL) program. Under § 123.9(a) of the International Traffic in Arms Regulations (ITAR), unless an exemption applies, DDTC's written approval must be obtained before reselling, transferring, reexporting, retransferring, transshipping, or disposing of a defense article to any end-user, end-use, or destination other than as stated on the export license or in the Electronic Export Information filing in cases where an exemption was claimed. Such approval is normally granted through case-by-case review of requests to authorize specific transfers. In addition, ITAR § 126.9(b) allows DDTC to provide export authorization for DDTC's own initiatives, including pilot programs and other specifically anticipated circumstances for which DDTC considers special authorizations appropriate. DDTC has launched a pilot program pursuant to its authorities in ITAR § 126.9(b) in order to assess the concept of an OGL mechanism by which it may authorize certain transfers of defense articles to predetermined parties. OGLs eliminate the need for the Department to individually review and approve certain lower-risk transactions involving certain recipients. DDTC believes the OGL pilot program will provide unprecedented flexibility for the U.S. defense industry and U.S. allies to operate consistent with the ITAR and will enhance their ability to maintain, repair, and store defense articles.Under ITAR § 123.1(c), DDTC may require pertinent documentation regarding the proposed transaction and proper completion of the application form, including information about the quantity and value of the defense article proposed for export and information on the proposed end-user, end-use, and ultimate destination. Under ITAR § 123.9(c), foreign persons who seek approval from DDTC to reexport or retransfer defense articles are required to submit a description, quantity, and value of the defense article; a description and identification of the new end-user, end-use, and destination. Under ITAR § 123.26 any foreign person engaging in any reexport or retransfer of a defense article pursuant to an exemption must maintain records of each such transfer including the following information: A description of the defense article, including technical data, or defense service; the name and address of the end-user and other available contact information (e.g., telephone number and email address); the name of the natural person responsible for the transaction; the stated end-use of the defense article or defense service; the date of the transaction; and the method of transmission.DDTC seeks to ensure that foreign persons who rely on any current or future OGLs to conduct reexports and retransfers abroad retain the same records as would be required if their transactions were authorized by either a specific license or an exemption. Accordingly, DDTC has restated the record-keeping requirements articulated in ITAR § 123.26 in the OGLs themselves.

Methodology

Respondents will submit information as attachments to relevant license applications or requests for other approval. Applicants are referred to ITAR § 123.9 for guidance on what information to submit regarding the request to change end-user, end-use and/or destination of hardware. This information may be submitted electronically via a DS-6004, Reexport/Retransfer Application, through DDTC's case management system, the Defense Export Control and Compliance System (DECCS).

Separately, under the OGL program, as described in each OGL, and as also described in ITAR § 123.26, respondents will be required to retain certain information in their own records for a period of five years from the date of the reexport or retransfer.

Authority

Section 3507 of the Paperwork Reduction Act of 1995, 44 U.S.C. chapter 35.

* * * * *

Michael F. Miller,
Deputy Assistant Secretary, PM/DDTC, Department of State.

[FR Doc. 2022-20963 Filed 9-27-22; 8:45 am]

BILLING CODE 4710-25-P